DEPARTMENT OF ENERGY

Federal Energy Regulatory Commission

Notice of Scoping Meetings and Site Visit and Soliciting Scoping Comments

May 24, 2000.

Take notice that the Commission intends to hold scoping meetings for the following hydroelectric application which has been filed with the Commission:

a. Type of Application: New Major License.

b. Project No.: 2589-024.

c. Date filed: July 29, 1999.

d. Applicant: Marquette Board of Light and Power.

e. Name of Project: Marquette Hydroelectric Project.

f. Location: On the Dead River, near the City of Marquette, Marquette County, Michigan. The project would not utilize federal lands.

g. Filed Pursuant to: Federal Power Act, 16 USC 791(a)-825(r).

h. Applicant Contact: Mr. David E. Hickey, Marquette Board of Light and Power, 2200 Wright Street, Marquette, MI 49855, (906) 228-0322.

i. FERC Contact: Lee Emery, (202) 219-2779.

j. Deadline for filing scoping comments: July 6, 2000.

All documents (original and eight copies) should be filed with: David P. Boergers, Secretary, Federal Energy Regulatory Commission, 888 First Street, NE, Washington, DC 20426.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

k. Status of environmental analysis: This application is not ready for environmental analysis at this time.

l. Description of Project: The Marquette Project consists of two separate developments: the No. 2 (Forestville) development and the No. 3 (Tourist Park) development. The No. 2 development, which is immediately downstream of the Dead River Project's McClure facility, consists of the following existing facilities: (1) a 202-foot-long, 62-foot-high concrete-capped Cyclopean masonry dam comprising: (a) a 197-foot-long concrete retaining wall, (b) a 75-foot-long training wall, and (c) a 33-foot-wide intake for the penstock. The masonry dam, which functions as an uncontrolled spillway during extremely high flows, has a spillway crest elevation of 771.0 feet NGVD. It is founded on, and anchored to, the bedrock; (2) one 90-inch-diameter, wood-stave penstock that is approximately 4,200 feet long and conveys water from the intake structure to a concrete surge tank; (3) two 440-foot-long, 78-inch-diameter steel penstocks that convey water from the surge tank to Powerhouse No. 2; (4) Powerhouse No. 2, a 40-foot by 96-foot reinforced concrete and brick structure that contains two turbines, with a combined capacity of 3.2 MW; (5) a 110-acre reservoir; and (6) appurtenant facilities.

The No. 3 development consists of the following existing facilities: (1) a dam that includes (looking from left to right downstream): (a) a 37-foot-long spillway left dike that has a crest elevation of 642.82 feet and a reinforced concrete core wall with a top elevation of 641.84; (b) a concrete ogee uncontrolled spillway that is 80 feet long and has a crest elevation of 638.84 feet (its maximum height is 21 feet above the streambed); (c) a spillway section that contains two 10-foot-high by 10-foot-wide Taintor gates (rollway crest beneath gates is at elevation 629.84) and electric hoists; (d) a 758-foot-long spillway right dike that has a crest elevation of 642.84 feet and a reinforced concrete wall (crest width 13.5 feet); and (e) a reinforced concrete intake structure that has a single 20-foot-wide by 17-foot-high bay, inclined trash racks, and a horizontally hinged gate with a dedicated electric hoist; (2) one 8-foot-diameter, 150-foot-long steel penstock that is supported on 9 reinforced-concrete pedestals and conveys water from the intake to the No. 3 Powerhouse; (3) Powerhouse No. 3, a 28-foot by 40-foot reinforced-concrete and brick structure containing one 700 kW vertical generating unit; (4) a 100-acre reservoir; and (5) appurtenant facilities.

m. Locations of the application: A copy of the application is available for inspection and reproduction at the Commission's Public Reference Room, located at 888 First Street, NE, Room 2A, Washington, DC 20426, or by calling (202) 208-1371. The application may be viewed on the web at http://www.ferc.fed.us/online/rims.htm (call 202-208-2222 for assistance). A copy is also available for inspection and reproduction at the address in item h above.

n. Scoping Process

The Commission staff held public scoping meetings for the Dead River Project (P-10855), located upstream of the Marquette Project, on October 29 and 30, 1996. Based on the stuff's preliminary analysis of the issues, the staff is proposing to prepare a Multiple Project Environmental Assessment (MPEA) for the Marquette Project and the Dead River Project. The staff believes that combining both the projects into one environmental document would provide the best approach for analyzing potential cumulative environmental effects associated with both projects located relatively close to one another on the Dead River.

Scoping Meetings

The Commission will hold scoping meetings, one in the daytime and one in the evening, to identify the scope of issues to be addressed in the MPEA.

The daytime scoping meeting will focus on resource agency concerns, while the evening scoping meeting is primarily for public input. All interested individuals, organizations, and agencies are invited to attend one or both of the meetings, and to assist the staff in identifying the scope of the environmental issues that should be analyzed in the MPEA. The times and locations of these meetings are as follows:

Daytime Meeting

Date: June 6, 2000

Time: 9 a.m.-12 p.m.

Place: Cadillac/Brule Room

Don H. Bottum University Center

Northern Michigan University

540 West K Avenue

Marquette, MI 24855

Evening Meeting

Date: June 6, 2000

Time: 7 p.m.-10 p.m.

Place: Brule Room

Don H. Bottom University Center

Northern Michigan University

540 West K Avenue

Marquette, MI 24855

To help focus discussions, we will distribute a Scoping Document (SDI) outlining the subject areas to be addressed in the MPEA to the parties on the Commission's distribution list. Copies of the SDI also will be available at the scoping meetings.

Site Visit

The applicant and Commission staff will conduct a project site visit on Tuesday, June 6, 2000 starting at 1:30 p.m. We will meet in the Board Room of Marquette Board of Light and Power, located at 2200 Wright Street in Marquettte, MI. Those who wish to attend the site visit should contact Lee Emery of FERC at (202) 219-2779 or Mike Headrick of Harza Engineering Company at (312) 831-3038 on or before June 1, 2000.

Objectives

At the scoping meetings, the staff will: (1) Summarize the environmental issues tentatively identified for analysis in the MPEA; (2) solicit from the meeting participants all available information, especially quantifiable data, on the resources at issue; (3) encourage statements from experts and the public on issues that should be analyzed in the MPEA, including viewpoints in opposition to, or in support of, the staff's preliminary views; (4) determine the resource issues to be addressed in the MPEA; and (5) identify those issues that require a detail analysis, as well as those issues that do not require a detailed analysis.

The meetings will be recorded by a stenographer and will become part of the formal record of the Commission's proceeding on the project. Individuals presenting statements at the meetings will be asked to sign in before the meeting starts and to identify themselves clearly for the record.

Individuals, organizations, and agencies with environmental expertise and concerns are encouraged to attend the meetings and to assist the staff in defining and clarifying the issues to be addressed in this MPEA.

Linwood A. Watson, Jr.,
Acting Secretary.

[FR Doc. 00-13410 Filed 5-26-00; 8:45 am]

BILLING CODE 6717-01-M